DEPARTMENT OF TRANSPORTATION

Federal Aviation Administration

14 CFR Part 39

[Docket No. 2003-NM-04-AD]

RIN 2120-AA64

Airworthiness Directives; Empresa Brasileira de Aeronautica S.A. (EMBRAER) Model EMB-135 and -145 Series Airplanes

AGENCY: Federal Aviation Administration, DOT.

ACTION: Proposed rule; withdrawal.

SUMMARY: This action withdraws a notice of proposed rulemaking (NPRM) that proposed a new airworthiness directive (AD), applicable to certain EMBRAER Model EMB-135 and -145 series airplanes. That action would have required a one-time inspection of the trailing arm cardan of each main landing gear (MLG) to identify a certain part number; a one-time inspection of certain trailing arm cardans to detect cracking, if necessary; and replacement of incorrect trailing arm cardans with cardans having a certain part number. Since the issuance of the NPRM, the Federal Aviation Administration (FAA) has received new substantiating data from the manufacturer that verify that all affected airplanes in the worldwide and domestic fleets are in compliance with the proposed requirements of the NPRM, and all affected spare parts have been returned to the manufacturer and destroyed. Accordingly, the proposed rule is withdrawn.

FOR FURTHER INFORMATION CONTACT: Todd Thompson, Aerospace Engineer, International Branch, ANM-116, Transport Airplane Directorate, FAA, 1601 Lind Avenue, SW., Renton, Washington 98055-4056; telephone (425) 227-1175; fax (425) 227-1149.

SUPPLEMENTARY INFORMATION: A proposal to amend part 39 of the Federal Aviation Regulations (14 CFR part 39) to add a new airworthiness directive (AD), applicable to certain EMBRAER Model EMB-135 and -145 series airplanes, was published in the Federal Register as a Notice of Proposed Rulemaking (NPRM) on March 17, 2003 (68 FR 12615). The proposed rule would have required a one-time inspection of the trailing arm cardan of each main landing gear (MLG) to identify a certain part number; a one-time inspection of certain trailing arm cardans to detect cracking, if necessary; and replacement of incorrect trailing arm cardans with cardans having a certain part number. That action was prompted by notification from the Departmento de Aviacao Civil (DAC), which is the airworthiness authority for Brazil, of an unsafe condition. The DAC advised that during a sampling program, fatigue cracks were found on certain trailing arm cardans of the MLGs. The proposed actions were intended to ensure that correct trailing arm cardans of the MLGs were installed.

Actions That Occurred Since the NPRM Was Issued

Since the issuance of that NPRM, the manufacturer has requested that the NPRM be withdrawn. The manufacturer has provided data that substantiate that all affected airplanes in the worldwide and domestic fleets are in compliance with the proposed requirements of the NPRM, and that all affected spare parts have been returned to the manufacturer and destroyed.

FAA's Conclusions

Upon further consideration, and based on comments received in response to the proposed AD, we have determined that all affected airplanes in the worldwide and domestic fleets have complied with the requirements of the NPRM, and that all affected spare parts have been returned to the manufacturer and destroyed. Accordingly, the proposed rule is hereby withdrawn.

Withdrawal of this NPRM constitutes only such action, and does not preclude the agency from issuing another action in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2003-NM-04-AD, published in the Federal Register on March 17, 2003 (68 FR 12615), is withdrawn.

Issued in Renton, Washington, on October 21, 2004.
Kalene C. Yanamura,
Acting Manager, Transport Airplane Directorate, Aircraft Certification Service.

[FR Doc. 04-24539 Filed 11-2-04; 8:45 am]

BILLING CODE 4910-13-P